DEPARTMENT OF COMMERCE

National Institute of Standards and Technology

National Fire Codes: Request for Comments on NFPA Technical Committee Reports

AGENCY: National Institute of Standards and Technology, Commerce.

ACTION: Notice.

SUMMARY: The National Fire Protection Association (NFPA) revises existing standards and adopts new standards twice a year. At its November meeting or its May meeting, the NFPA acts on recommendations made by its technical committees.

The purpose of this notice is to request comments on the technical reports that will be presented at NFPA's 2004 May meeting. The publication of this notice by the National Institute of Standards and Technology (NIST) on behalf of NFPA is being undertaken as a public service; NIST does not necessarily endorse, approve, or recommend any of the standards referenced in the notice.

DATES: The National Electrical Code is published in a separate Report on Proposals and is available about July 11, 2003, on the NFPA Web site http://www.nfpa.org/nec/TheNEC/ROPsROCs/2003ROP/2003ROP.asp. Comments received on or before October 31, 2003, will be considered by the National Electrical Code Panels before NFPA takes final action on the proposals.

Thirty-one reports are published in the 2004 May Meeting Report on Proposals and will be available on August 1, 2003. Comments received on or before October 10, 2003, will be considered by the respective NFPA Committees before final action is taken on the proposals.

ADDRESSES: The 2004 May Meeting Report on Proposals and the NEC® Report on Proposals are available and downloadable from NFPA's Web site— http://www.nfpa.org or by requesting a copy from the NFPA, Fulfillment Center, 11 Tracy Drive, Avon, Massachusetts 02322. Comments on the report should be submitted to Casey C. Grant, Secretary, Standards Council, NFPA, 1 Batterymarch Park, P. O. Box 9101, Quincy, Massachusetts 02269-9101.

FOR FURTHER INFORMATION CONTACT: Casey C. Grant, Secretary, Standards Council, NFPA, 1 Batterymarch Park, Quincy, Massachusetts 02269-9101, (617) 770-3000.

SUPPLEMENTARY INFORMATION:

Background

The National Fire Protection Association (NFPA) develops building, fire, and electrical safety codes and standards. Federal agencies frequently use these codes and standards as the basis for developing federal regulations concerning fire safety. Often, the Office of the Federal Register approves the incorporation by reference of these standards under 5 U.S.C. 552(a) and 1 CFR part 51.

Revisions of existing standards and adoption of new standards are reported by the technical committees at the NFPA's November meeting or at the May meeting each year. The NFPA invites public comment on its Report on Proposals.

Request for Comments

Interested persons may participate in these revisions by submitting written data, views, or arguments to Casey C. Grant, Secretary, Standards Council, NFPA, 1 Batterymarch Park, Quincy, Massachusetts 02269-9101. Commenters may use the forms provided for comments in the Reports on Proposals. Each person submitting a comment should include his or her name and address, identify the notice, and give reasons for any recommendations. Comments received on or before October 10, 2003, for the 2004 May Meeting Report on Proposals or October 31, 2003, for the NEC® Report on Proposals will be considered by the NFPA before final action is taken on the proposals.

Copies of all written comments received and the disposition of those comments by the NFPA committees will be published as the 2004 May Meeting Report on Comments by April 2, 2004, or on April 8, 2004, for the NEC® Report on Comments, prior to the May meeting.

A copy of the Report on Comments will be sent automatically to each commenter. Action on the reports of the Technical Committees (adoption or rejection) will be taken at the May meeting, May 23-27, 2004, in Salt Lake City, Utah, by NFPA members.

2004 May Meeting Report on Proposals
Doc No. | Title | Action
NFPA 32 | Standard for Drycleaning Plants | C
NFPA 45 | Standard on Fire Protection for Laboratories Using Chemicals | C
NFPA 70 | National Electrical Code® | P
NFPA 91 | Standard for Exhaust Systems for Air Conveying of Vapors, Gases, Mists, and Noncombustible Particulate Solids | C
NFPA 96 | Standard for Ventilation Control and Fire Protection of Commercial Cooking Operations | P
NFPA 120 | Standard for Coal Preparation Plants | C
NFPA 121 | Standard on Fire Protection for Self-Propelled and Mobile Surface Mining Equipment | W
NFPA 122 | Standard for Fire Prevention and Control in Underground Metal and Nonmetal Mines | C
NFPA 123 | Standard for Fire Prevention and Control in Underground Bituminous Coal Mines | W
NFPA 241 | Standard for Safeguarding Construction, Alteration, and Demolition Operations | P
NFPA 271 | Standard Method of Test for Heat and Visible Smoke Release Rates for Materials and Products Using an Oxygen Consumption Calorimeter | P
NFPA 302 | Fire Protection Standard for Pleasure and Commercial Motor Craft | P
NFPA 405 | Recommended Practice for the Recurring Proficiency Training of Aircraft Rescue and Fire-Fighting Services | C
NFPA 408 | Standard for Aircraft Hand Portable Fire Extinguishers | C
NFPA 409 | Standard on Aircraft Hangars | P
NFPA 410 | Standard on Aircraft Maintenance | C
NFPA 422 | Guide for Aircraft Accident Response | C
NFPA 423 | Standard for Construction and Protection of Aircraft Engine Test Facilities | C
NFPA 430 | Code for the Storage of Liquid and Solid Oxidizers | P
NFPA 450 | Guide for Emergency Medical Services and Systems | N
NFPA 502 | Standard for Road Tunnels, Bridges, and Other Limited Access Highways | P
NFPA 555 | Guide on Methods for Evaluating Potential for Room Flashover | C
NFPA 701 | Standard Methods of Fire Tests for Flame Propagation of Textiles and Films | C
NFPA 780 | Standard for the Installation of Lightning Protection Systems | C
NFPA 1150 | Standard on Fire-Fighting Foam Chemicals for Class A Fuels in Rural, Suburban, and Vegetated Areas | C
NFPA 1201 | Standard for Developing Fire Protection Services for the Public | C
NFPA 1250 | Recommended Practice in Emergency Service Organization Risk Management | C
NFPA 1710 | Standard for the Organization and Deployment of Fire Suppression Operations, Emergency Medical Operations, and Special Operations to the Public by Career Fire Departments | P
NFPA 1720 | Standard for the Organization and Deployment of Fire Suppression Operations, Emergency Medical Operations and Special Operations to the Public by Volunteer Fire Departments | C
NFPA 1931 | Standard on Design of and Design Verification Tests for Fire Department Ground Ladders | C
NFPA 1932 | Standard on Use, Maintenance and Service Testing of Fire Department Ground Ladders | C
P = Partial revision; W = Withdrawal; R = Reconfirmation; N = New; C = Complete Revision.

Dated: July 9, 2003.
Arden L. Bement, Jr.,
Director.

[FR Doc. 03-18141 Filed 7-16-03; 8:45 am]

BILLING CODE 3510-13-P